DEPARTMENT OF TRANSPORTATION

Federal Aviation Administration

14 CFR Part 25

[Docket No. FAA-2023-2437; Notice No. 25-24-01-SC]

Special Conditions: Gulfstream Aerospace Corporation Model GVIII-G700 and GVIII-G800 Series Airplanes; Flight Envelope Protection: Takeoff Stall Protection

AGENCY: Federal Aviation Administration (FAA), DOT.

ACTION: Notice of proposed special conditions.

SUMMARY: These special conditions are issued for the Gulfstream Aerospace Corporation (Gulfstream) Model GVIII-G700 and GVIII-G800 series airplanes. These airplanes will have a novel or unusual design feature when compared to the state of technology envisioned in the airworthiness standards for transport category airplanes. This design feature is an envelope protection function to protect the airplane from over- and rapid-rotation on takeoff. The applicable airworthiness regulations do not contain adequate or appropriate safety standards for this design feature. These special conditions contain the additional safety standards that the Administrator considers necessary to establish a level of safety equivalent to that established by the existing airworthiness standards.

DATES: Send comments on or before February 7, 2024.

ADDRESSES: Send comments identified by Docket No. FAA-2023-2437 using any of the following methods:

Federal eRegulations Portal: Go to www.regulations.gov and follow the online instructions for sending your comments electronically.

Mail: Send comments to Docket Operations, M-30, U.S. Department of Transportation (DOT), 1200 New Jersey Avenue SE, Room W12-140, West Building Ground Floor, Washington, DC 20590-0001.

Hand Delivery or Courier: Take comments to Docket Operations in Room W12-140 of the West Building Ground Floor at 1200 New Jersey Avenue SE, Washington, DC, between 9 a.m. and 5 p.m., Monday through Friday, except Federal holidays.

Fax: Fax comments to Docket Operations at 202-493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FOR FURTHER INFORMATION CONTACT: Troy Brown, Performance and Environment Unit, AIR-621A, Technical Policy Branch, Policy and Standards Division, Aircraft Certification Service, Federal Aviation Administration, 1801 S Airport Rd, Wichita, KS 67209-2190; telephone and fax 405-666-1050; email troy.a.brown@faa.gov.

SUPPLEMENTARY INFORMATION:

Comments Invited

The FAA invites interested people to take part in this rulemaking by sending written comments, data, or views. The most helpful comments reference a specific portion of the proposed special conditions, explain the reason for any recommended change, and include supporting data.

On December 31, 2019, Gulfstream applied for an amendment to Type Certificate No. T00015AT to include the new Model GVIII-G700 and GVIII-G800 series airplanes. While the comment period provided by the FAA for proposed special conditions has typically been thirty days, the FAA is providing twenty days in this instance, due to the relative similarity of these conditions with the terms of previously issued special conditions, and due to the pendency of the anticipated delivery date for the affected airplane models, per the criteria in 14 CFR 11.38. The FAA will consider all comments received by the closing date for comments and will consider comments filed late if it is possible to do so without incurring delay. The FAA may change these special conditions based on the comments received.

Privacy

Except for Confidential Business Information (CBI) as described in the following paragraph, and other information as described in title 14, Code of Federal Regulations (14 CFR) 11.35, the FAA will post all comments received without change to www.regulations.gov, including any personal information you provide. The FAA will also post a report summarizing each substantive verbal contact received about these special conditions.

Confidential Business Information

Confidential Business Information (CBI) is commercial or financial information that is both customarily and actually treated as private by its owner. Under the Freedom of Information Act (FOIA) (5 U.S.C. 552), CBI is exempt from public disclosure. If your comments responsive to these special conditions contain commercial or financial information that is customarily treated as private, that you actually treat as private, and that is relevant or responsive to these special conditions, it is important that you clearly designate the submitted comments as CBI. Please mark each page of your submission containing CBI as “PROPIN.” The FAA will treat such marked submissions as confidential under the FOIA, and the indicated comments will not be placed in the public docket of these special conditions. Send submissions containing CBI to the individual listed in the For Further Information Contact section above. Comments the FAA receives, which are not specifically designated as CBI, will be placed in the public docket for these special conditions.

Background

As noted above, on December 31, 2019, Gulfstream applied for an amendment to Type Certificate No. T00015AT to include the new Model GVIII-G700 and GVIII-G800 series airplanes. These airplanes, which will be derivatives of the Model GVI currently approved under Type Certificate No. T00015AT, are twin-engine, transport-category airplanes, with seating for 19 passengers, and a maximum take-off weight of 107,600 pounds (GVIII-G700) and 105,600 pounds (GVIII-G800).

Type Certification Basis

Under the provisions of title 14, Code of Federal Regulations (14 CFR) 21.101, Gulfstream must show that the Model GVIII-G700 and GVIII-G800 series airplanes meet the applicable provisions of the regulations listed in Type Certificate No. T00015AT, or the applicable regulations in effect on the date of application for the change, except for earlier amendments as agreed upon by the FAA.

If the Administrator finds that the applicable airworthiness regulations (e.g., 14 CFR part 25) do not contain adequate or appropriate safety standards for the Gulfstream Model GVIII-G700 and GVIII-G800 series airplanes because of a novel or unusual design feature, special conditions are prescribed under the provisions of § 21.16.

Special conditions are initially applicable to the model for which they are issued. Should the type certificate for that model be amended later to include any other model that incorporates the same novel or unusual design feature, or should any other model already included on the same type certificate be modified to incorporate the same novel or unusual design feature, these special conditions would also apply to the other model under § 21.101.

In addition to the applicable airworthiness regulations and special conditions, the Gulfstream Model GVIII-G700 and GVIII-G800 series airplanes must comply with the exhaust-emission requirements of 14 CFR part 34, and the noise-certification requirements of 14 CFR part 36.

The FAA issues special conditions, as defined in 14 CFR 11.19, in accordance with 14 CFR 11.38, and they become part of the type certification basis under § 21.101.

Novel or Unusual Design Features

The Gulfstream Model GVIII-G700 and GVIII-G800 airplanes will incorporate the following novel or unusual design feature:

An envelope protection function within the electronic flight control system (EFCS) to protect the airplane from over- and rapid-rotation on takeoff.

Discussion

The Gulfstream Model GVIII-G700 and GVIII-G800 series airplanes are equipped with an envelope protection function within the EFCS that is designed to provide enhanced takeoff stall protection (TSP). This feature protects against excessive pitch rate and pitch attitude during takeoff using a limitation in the electronic flight controls. It is designed to provide conventional behavior using a normal takeoff technique, including “performance” takeoffs. The on-ground mode is a pitch rate command with a pitch attitude limit. The functionality in on-ground mode is that pitch rate command is proportional to stick input. The limit to pitch attitude will indirectly limit the angle of attack.

The TSP involves a control law update in the on-ground control mode only. The Model GVIII-G700 and GVIII-G800 series airplane's pitch control behavior, with regard to rotation rates and attitudes for normal takeoffs, will be similar to other Gulfstream airplanes equipped with side sticks; however, takeoffs with rapid rotation rates and over-rotation will be influenced by the TSP.

The current regulations in Subpart B of 14 CFR part 25 do not address envelope protections for electronic flight control systems as this technology is novel or unusual for transport category airplanes. These special conditions are specific to the GVIII-G700 and GVIII-G800 series airplanes. These conditions are necessary to ensure a smooth transition from normal flight to the TSP mode and adequate maneuver capability. These conditions also ensure that the structural limits of the airplane are not exceeded. Furthermore, failure of the TSP function must not create hazardous flight conditions.

The proposed special conditions contain the additional safety standards that the Administrator considers necessary to establish a level of safety equivalent to that established by the existing airworthiness standards.

Applicability

As discussed above, these special conditions are applicable to the Gulfstream Model GVIII-G700 and GVIII-G800 series airplanes. Should Gulfstream apply at a later date for a change to the type certificate to include another model that incorporates the same novel or unusual design feature, or should any other model already included on the same type certificate be modified to incorporate the same novel or unusual design feature, these special conditions would apply to the other model as well.

Conclusion

This action affects only a certain novel or unusual design feature on Gulfstream Model GVIII-G700 and GVIII-G800 series of airplanes. It is not a rule of general applicability.

List of Subjects in 14 CFR Part 25

Aircraft, Aviation safety, Reporting and recordkeeping requirements.

Authority Citation

The authority citation for these special conditions is as follows:

Authority: 49 U.S.C. 106(f), 106(g), 40113, 44701, 44702, and 44704.

The Special Conditions

Accordingly, pursuant to the authority delegated to me by the Administrator, the following special conditions are proposed as part of the type certification basis for the Gulfstream Model GVIII-G700 and GVIII-G800 series airplanes.

For airplanes that employ a takeoff stall protection function:

(a) The takeoff stall protection function must not unduly limit the maneuvering capability of the airplane nor interfere with its ability to perform maneuvers required for normal and emergency operations.

(b) Onset characteristics of the takeoff stall protection function must be appropriate to the phase of flight and type of maneuver and must not conflict with the ability of the pilot to satisfactorily control the airplane flight path, speed, or attitude.

(c) Excursions of a limited flight parameter beyond its nominal design limit value due to dynamic maneuvering, airframe and system tolerances, and non-steady atmospheric conditions must not result in unsafe flight characteristics or conditions.

(d) Operation of the takeoff stall protection function must not adversely affect aircraft control during expected levels of atmospheric disturbances, nor impede the application of recovery procedures in case of windshear.

(e) Activation of the takeoff stall protection function must not result in adverse coupling or adverse priority.

(f) In case of abnormal attitude or excursion of any flight parameters outside the protected boundaries, operation of the takeoff stall protection functions must not hinder airplane recovery.

Issued in Kansas City, Missouri, on January 11, 2024.
Patrick R. Mullen,
Manager, Technical Policy Branch, Policy and Standards Division, Aircraft Certification Service.

[FR Doc. 2024-00810 Filed 1-17-24; 8:45 am]

BILLING CODE P